ENVIRONMENTAL PROTECTION AGENCY

40 CFR Part 81

Designation of Areas for Air Quality Planning Purposes

CFR Correction

In Title 40 of the Code of Federal Regulations, parts 81 to 85, revised as of July 1, 2005, in § 81.339, on page 343, in the table “Pennsylvania—TSP”, under “V. Southwest Pennsylvania Intrastate AQCR”, revise the entry for “Allegheny County Air Basin” to read as follows:

§ 81.339 Pennsylvania.

* * * * *

Pennsylvania—TSP
Designated area | Does not meet primary standards | Does not meet secondary standards | Cannot be classified | Better than national standards
* * * * *
(B) Allegheny County Air Basin:
(1) A three mile wide strip which is within a perpendicular distance two miles north and east and one mile south and west of the river center line with terminus points as follows:
(a) The Beaver County line to the I-79 Bridge on the Ohio River |  |  |  | X
(b) I-79 to the McKees Rocks Bridge on the Ohio River |  |  |  | X
(c) McKees Rocks Bridge to the Birmingham Bridge on the Ohio and Monongahela Rivers |  | X |  |
(d) Birmingham Bridge to the Glenwood Bridge on the Monongahela River | X |  |  |
(e) Glenwood Bridge to the Mansfield Bridge (Dravosburg) on the Monongahela River | X |  |  |
(f) Mansfield Bridge to the Westmoreland County line on the Monongahela River | X |  |  |
(2) The area within a half-mile radius of the Greater Pittsburgh Airport monitor |  | X |  |
(3) The one mile wide strip centered on Turtle Creek running from area (V)(B)(1)(e) above to the Westmoreland County line | X |  |  |
(4) The Area #9 within Allegheny County within a radius of 2 miles of the Springdale Monitor |  |  |  | X
(5) The remaining portions of the Allegheny County Air Basin |  |  |  | X
* * * * *

* * * * *

[FR Doc. 06-55505 Filed 2-6-06; 8:45 am]

BILLING CODE 1505-01-D